DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA), Department of Commerce.

Title: Pacific Islands Logbook Family of Forms.

Form Number(s): None.

OMB Approval Number: 0648-0214.

Type of Request: Regular submission.

Burden Hours: 2,436.

Number of Respondents: 220.

Average Hours Per Response: Logbook forms, 5 minutes; notifications, 1 minute; observer placement meetings, 1 hour; and claim for reimbursement, 4 hours.

Needs and Uses: The fishermen in Federally-managed fisheries in the western Pacific region are required to provide certain information about their fishing activities. These data are needed to determine the condition of the stocks and whether the current management measures are having the intended effects, to evaluate the benefits and costs of changes in management measures, and to monitor and respond to accidental takes of endangered and threatened species, including seabirds, sea turtles, and marine mammals. This action seeks to renew Paperwork Reduction Act (PRA) clearance for this collection.

Affected Public: Business or other for-profit organizations; individuals or households.

Frequency: On occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number (202) 395-7285, or David_Rostker@omb.eop.gov.

Dated: November 16, 2006.
Gwellnar Banks,
Management Analyst, Office of the Chief Information Officer.

[FR Doc. E6-19667 Filed 11-20-06; 8:45 am]

BILLING CODE 3510-22-P